DEPARTMENT OF COMMERCE

International Trade Administration

[A-412-826, A-469-816, A-475-836, A-489-831, A-520-808, A-580-891, A-791-823, A-821-824, A-822-806, A-823-816]

Carbon and Certain Alloy Steel Wire Rod From Belarus, Italy, the Republic of Korea, the Russian Federation, the Republic of South Africa, Spain, the Republic of Turkey, Ukraine, the United Arab Emirates, and the United Kingdom: Continuation of Antidumping Duty Orders

AGENCY: Enforcement and Compliance, International Trade Administration, Department of Commerce.

SUMMARY: As a result of the determinations by the U.S. Department of Commerce (Commerce) and the U.S. International Trade Commission (ITC) that revocation of the antidumping duty (AD) orders on carbon and certain alloy steel wire rod (steel wire rod) from Belarus, Italy, the Republic of Korea (Korea), the Russian Federation (Russia), the Republic of South Africa (South Africa), Spain, the Republic of Turkey (Turkey), Ukraine, the United Arab Emirates (UAE), and the United Kingdom would likely lead to continuation or recurrence of dumping and material injury to an industry in the United States, Commerce is publishing a notice of continuation of these AD orders.

DATES: Applicable August 2, 2023.

FOR FURTHER INFORMATION CONTACT: Seth Brown, AD/CVD Operations, Office IX, Enforcement and Compliance, International Trade Administration, U.S. Department of Commerce, 1401 Constitution Avenue NW, Washington, DC 20230; telephone: (202) 482-0029.

SUPPLEMENTARY INFORMATION:

Background

On January 24, 2018, Commerce published in the Federal Register the AD orders on steel wire rod from Belarus, Russia, and the UAE.¹ On March 14, 2018, Commerce published in the Federal Register the AD orders on steel wire rod from South Africa and Ukraine.² Finally, on May 21, 2018, Commerce published in the Federal Register the AD orders on steel wire rod from Italy, Korea, Spain, Turkey, and the United Kingdom (collectively, Orders).³ On December 1, 2022, the ITC instituted,⁴ and Commerce initiated,⁵ the first sunset reviews of these Orders, pursuant to section 751(c) of the Tariff Act of 1930, as amended (the Act). As a result of its reviews, Commerce determined that revocation of these Orders would be likely to lead to continuation or recurrence of dumping and, therefore, notified the ITC of the magnitude of the margins and net subsidy rates likely to prevail should the Orders be revoked.⁶

¹ See Carbon and Alloy Steel Wire Rod from Belarus, the Russian Federation, and the United Arab Emirates: Antidumping Duty Orders, 83 FR 3297 (January 24, 2018), as corrected in Carbon and Alloy Steel Wire Rod From Belarus, the Russian Federation, and the United Arab Emirates: Notice of Correction to Antidumping Duty Orders, 83 FR 5402 (February 7, 2018) (correcting one of the Harmonized Tariff Schedule of the United States (HTSUS) numbers listed in the scope).

² See Carbon and Alloy Steel Wire Rod from the Republic of South Africa and Ukraine: Antidumping Duty Orders, 83 FR 11175 (March 14, 2018).

³ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018).

⁴ See Carbon and Certain Alloy Steel Wire Rod from Belarus, Italy, Russia, South Africa, South Korea, Spain, Turkey, Ukraine, the United Arab Emirates, and the United Kingdom; Institution of Five-Year Reviews, 87 FR 73789 (December 1, 2022).

⁵ See Initiation of Five Year (Sunset) Reviews, 87 FR 73757 (December 1, 2022).

⁶ See Carbon and Certain Alloy Steel Wire Rod from Belarus, Italy, the Republic of Korea, the Russian Federation, the Republic of South Africa, Spain, the Republic of Turkey, Ukraine, the United Arab Emirates, and the United Kingdom: Final Results of Expedited First Sunset Reviews of Antidumping Duty Orders, 88 FR 15955 (March 15, 2023), and accompanying Issues and Decision Memorandum.

On August 2, 2023, the ITC published its determinations, pursuant to sections 751(c) and 752(a) of the Act, that revocation of the Orders would likely lead to continuation or recurrence of material injury to an industry in the United States within a reasonably foreseeable time.⁷

⁷ See Carbon and Certain Alloy Steel Wire Rod from Belarus, Italy, Russia, South Africa, South Korea, Spain, Turkey, Ukraine, the United Arab Emirates, and the United Kingdom, 88 FR 50911 (August 2, 2023) (ITC Final Determinations).

Scope of the Orders

The products covered by these Orders are certain hot-rolled products of carbon steel and alloy steel, in coils, of approximately round cross section, less than 19.00 mm in actual solid cross-sectional diameter. Specifically excluded are steel products possessing the above-noted physical characteristics and meeting the HTSUS definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products under these Orders are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of these proceedings is dispositive.

Continuation of the Orders

As a result of the determinations by Commerce and the ITC that revocation of the Orders would likely lead to a continuation or a recurrence of dumping and material injury to an industry in the United States, pursuant to section 751(d)(2) of the Act and 19 CFR 351.218(a), Commerce hereby orders the continuation of the Orders. U.S. Customs and Border Protection will continue to collect antidumping duty cash deposits at the rates in effect at the time of entry for all imports of subject merchandise.

The effective date of the continuation of the Orders will be August 2, 2023.⁸ Pursuant to section 751(c)(2) of the Act and 19 CFR 351.218(c)(2), Commerce intends to initiate the next five-year review of the Orders not later than 30 days prior to fifth anniversary of the date of the last determination by the Commission.

⁸ See ITC Final Determinations.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation of the APO which is subject to sanctions.

Notification to Interested Parties

These five-year (sunset) reviews and this notice are in accordance with sections 751(c) and 751(d)(2) of the Act and published in accordance with section 777(i) of the Act and 19 CFR 351.218(f)(4).

Dated: August 18, 2023.
Lisa W. Wang,
Assistant Secretary for Enforcement and Compliance.

[FR Doc. 2023-18229 Filed 8-23-23; 8:45 am]

BILLING CODE 3510-DS-P